ENVIRONMENTAL PROTECTION AGENCY

40 CFR Parts 61 and 63

[EPA-R04-OAR-2024-0141; FRL-11846-01-R4]

Tennessee; National Emission Standards for Hazardous Air Pollutants; National Emission Standards for Hazardous Air Pollutants for Source Categories; Supplemental Delegations of Authority

AGENCY: Environmental Protection Agency (EPA).

ACTION: Notification of supplemental delegations of authority.

SUMMARY: On March 9, 2023, the Tennessee Department of Environment and Conservation's (TDEC or State) Division of Air Pollution Control (TDEC-APC) requested to update the method of delegations and continue the delegations of authority to implement and enforce National Emission Standards for Hazardous Air Pollutants (NESHAPs), and NESHAPs for Source Categories.

DATES: June 27, 2024.

ADDRESSES: Copies of the request to change the delegation mechanism for NESHAP from “case-by-case” to “adopt-by-reference” and NESHAP for Source Categories from “automatic” to “adopt-by-references” are available for public inspection during normal business hours at the following locations:

Environmental Protection Agency, Region 4, Air and Radiation Division, Air Analysis and Support Branch, 61 Forsyth Street SW, Atlanta, Georgia 30303.

Tennessee Department of Environment and Conservation, Divisions of Air Pollution Control, William R. Snodgrass Tennessee Tower, 312 Rosa L. Parks Avenue, 15th Floor, Nashville, Tennessee 37243.

Effective February 26, 2024, all requests, applications, reports, and other correspondence required by any NESHAP and NESHAP for Source Categories should continue to be submitted to the following address: Tennessee Department of Environment and Conservation, Divisions of Air Pollution Control, William R. Snodgrass Tennessee Tower, 312 Rosa L. Parks Avenue, 15th Floor, Nashville, Tennessee 37243.

Although the EPA is not accepting comments regarding this notification, Docket ID No. EPA-R04-OAR-2024-0141 at https://www.regulations.gov contains relevant information related to this information notification.

FOR FURTHER INFORMATION CONTACT: Tracy Watson, Stationary Source Team, Regulatory and Communities Air Toxics Section, Air Analysis and Support Branch, Air and Radiation Division, Environmental Protection Agency, Region 4, 61 Forsyth St. SW, Atlanta, Georgia 30303, 404-562-8998. Email: watson.marion@epa.gov.

SUPPLEMENTARY INFORMATION:

I. Background

Section 112(l) of the Clean Air Act (CAA), as amended November 15, 1990, authorizes EPA to delegate authority to implement and enforce the standards set out in 40 CFR parts 61 and 63, NESHAPs. On April 11, 1980, EPA initially delegated the authority to implement and enforce the 40 CFR part 61 NESHAP program to TDEC-APC (46 FR 29330). On July 29, 1996, EPA approved TDEC-APC's use of the EPA's case-by-case and automatic mechanisms for future delegations of authority for 40 CFR parts 61 and part 63 NESHAPs, respectively. See 61 FR 39355.

On March 9, 2023, EPA received a letter from TDEC-APC which requested to update the method of delegations and continue the delegations of authority to implement and enforce Title 40, Code of Federal Regulations, part 61, NESHAPs, and part 63, NESHAPs for Source Categories. For part 61 NESHAPs, TDEC-APC requested to change the delegation mechanism from “case-by-case” to “adopt-by-reference.” For part 63 NESHAPs, TDEC-APC requested to change the delegation mechanism from “automatic” to “adopt-by-reference.”

With these NESHAPs and NESHAPs for Source Categories delegation mechanisms in place, once a new or revised NESHAP or NESHAP for Source Categories is promulgated by the EPA, delegation of authority from the EPA to the TDEC-APC will become effective on the date the NESHAP is adopted into State rules by TDEC-APC. No further State requests for delegation will be necessary. Likewise, no further Federal Register notifications will be published. EPA continues to retain authority to implement the Federal NESHAP and NESHAP for Source Categories directly and continues to retain concurrent enforcement authority. EPA is providing notice that it approved TDEC-APC's request on February 26, 2024.

II. Update to Delegation Methods

After a thorough review of the request, the Regional Administrator has determined that the laws, rules, and regulations for the State agency provide an adequate and effective procedure for implementation and enforcement of parts 61 and 63 NESHAPs. EPA, therefore, hereby notifies the public that it has approved the adopt-by-reference delegation mechanism for delegation of the part 61 NESHAP and part 63 NESHAPs for Source Categories. This approval became effective on February 26, 2024. A copy of EPA's letter approving TDEC-APC's request, with enclosures, is available at Docket ID No. EPA-R04-OAR-2024-0141 at https://www.regulations.gov.

Authority: This notification is issued under the authority of sections 101, 112(l), and 301 of the CAA, as amended (42 U.S.C. 7401, 7412, and 7601).

Date: June 13, 2024.
Jeaneanne Gettle,
Acting Regional Administrator, Region 4.

[FR Doc. 2024-13896 Filed 6-26-24; 8:45 am]

BILLING CODE 6560-50-P